DEPARTMENT OF COMMERCE

International Trade Administration

[C-834-811]

Silicon Metal From Kazakhstan: Rescission of Countervailing Duty Administrative Review; 2020-2021

AGENCY: Enforcement and Compliance, International Trade Administration, Department of Commerce.

SUMMARY: The U.S. Department of Commerce (Commerce) is rescinding the administrative review of the countervailing duty (CVD) order on silicon metal from the Republic of Kazakhstan (Kazakhstan) for the period of review (POR) December 3, 2020, through December 31, 2021.

DATES: Applicable May 3, 2023.

FOR FURTHER INFORMATION CONTACT: Genevieve Coen, AD/CVD Operations, Office V, Enforcement and Compliance, International Trade Administration, U.S. Department of Commerce, 1401 Constitution Avenue NW, Washington, DC 20230; telephone: (202) 482-3251.

SUPPLEMENTARY INFORMATION:

Background

On April 1, 2022, Commerce published in the Federal Register a notice of opportunity to request an administrative review of the CVD order on silicon metal from Kazakhstan.¹ On June 9, 2022, pursuant to a request from interested parties, Commerce initiated an administrative review with respect to JSC NMC Tau-Ken Samruk and Tau-Ken Temir LLP (collectively, TKT),² in accordance with section 751(a) of the Tariff Act of 1930, as amended (the Act), and 19 CFR 351.213(b).³ On June 22, 2022, we placed on the record U.S. Customs and Border Protection (CBP) data for entries of silicon metal from Kazakhstan during the POR, showing no reviewable POR entries.⁴ We sought comments regarding the data and indicated our intent to rescind this review.⁵ TKT, the Government of Kazakhstan (GOK), and the petitioners ⁶ filed comments and rebuttal comments.⁷ No parties argued that there are any reviewable POR entries of subject merchandise. For a full discussion of the comments raised by interested parties and our analysis, see the Rescission Memorandum.⁸

¹ See Antidumping or Countervailing Duty Order, Finding, or Suspended Investigation; Opportunity to Request Administrative Review, 87 FR 35165 (April 1, 2022).

² See Silicon Metal from the Republic of Kazakhstan: Preliminary Affirmative Countervailing Duty Determination and Alignment of Final Determination with Final Antidumping Duty Determination, 85 FR 78122 (December 3, 2020), and accompanying Preliminary Decision Memorandum at 6, unchanged in Silicon Metal from the Republic of Kazakhstan: Final Affirmative Countervailing Duty Determination, 86 FR 11725 (February 26, 2021).

³ See Initiation of Antidumping and Countervailing Duty Administrative Reviews, 87 FR 35165 (June 9, 2022).

⁴ See Memorandum, “CBP Data Release and Intent to Rescind,” dated June 22, 2022.

⁵ Id.

⁶ The petitioners in this proceeding are Globe Specialty Metals, Inc. and Mississippi Silicon LLC.

⁷ See TKT's Letters, “Tau-Ken Temir LLP (TKT) Comments on Intent to Rescind,” dated July 13, 2022; “Silicon Metal from Kazakhstan,” and “Tau-Ken Temir LLP (TKT) Comments on Intent to Rescind,” dated July 18, 2022; and “Silicon Metal from Kazakhstan—This CVD Administrative Review Should Continue,” dated August 1, 2022; see also the GOK's Letter, “Rebuttal Comments,” dated July 20, 2022; and Petitioners' Letters, “Petitioners' Rebuttal Comments Supporting Commerce's Intent to Rescind the Administrative Review,” dated July 20, 2022; and “Petitioners' Request to Reject TKT's August 1 Submission,” dated August 3, 2022.

⁸ See Memorandum, “First Administrative Review of the Countervailing Duty Order on Silicon Metal from the Republic of Kazakhstan: Rescission of the Review,” dated concurrently with this notice (Rescission Memorandum).

Rescission of Review

It is Commerce's practice to rescind an administrative review of a CVD order, pursuant to 19 CFR 351.213(d)(3), when there are no reviewable entries of subject merchandise during the POR for which liquidation is suspended.⁹ Normally, upon completion of an administrative review, the suspended entries are liquidated at the CVD assessment rate calculated for the review period.¹⁰ Therefore, for an administrative review to be conducted, there must be a reviewable, suspended entry that Commerce can instruct CBP to liquidate at the CVD assessment rate calculated for the review period.¹¹ Accordingly, in the absence of suspended entries of subject merchandise during the POR for TKT, we are hereby rescinding this administrative review in accordance with 19 CFR 351.213(d)(3).

⁹ See Lightweight Thermal Paper from the People's Republic of China: Notice of Rescission of Countervailing Duty Administrative Review; 2015, 82 FR 14349 (March 20, 2017); see also Aluminum Wire and Cable from the People's Republic of China: Rescission of Countervailing Duty Administrative Review; 2019, 86 FR 36522 (July 12, 2021).

¹⁰ See 19 CFR 351.212(b)(2).

¹¹ See 19 CFR 351.213(d)(3).

Notification Regarding Administrative Protective Order

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751(a)(1) and 777(i)(1) of the Act, and 19 CFR 351.213(d)(4).

Dated: April 27, 2023.
James Maeder,
Deputy Assistant Secretary for Antidumping and Countervailing Duty Operations.

[FR Doc. 2023-09395 Filed 5-2-23; 8:45 am]

BILLING CODE 3510-DS-P